RAILROAD RETIREMENT BOARD

Computer Matching and Privacy Protection Act of 1988; Report of Matching Program: RRB and State Medicare/Medicaid Agencies (Renewal)

AGENCY: U.S. Railroad Retirement Board (RRB).

ACTION: Notice of a renewal of an existing computer matching program that expired on January 1, 2016.

SUMMARY: As required by the Privacy Act of 1974, as amended, the RRB is issuing a public notice in the Federal Register of its intent to renew an ongoing computer matching program. In this match, we provide certain Medicare and benefit rate information to state agencies allowing them to review and if necessary, adjust amounts of benefits in their public assistance programs as well as to coordinate Medicare/Medicaid payments for public assistance recipients.

The purpose of this notice is to advise individuals receiving benefits under the Railroad Retirement Act that the RRB plans to share this computer matching data with state agencies.

DATES: Submit comments on or before July 12, 2017, at which time matching activities may continue. Agreements with the individual states will run for a maximum length of 18 months with a provision for an automatic, one-time 12 month renewal, for a maximum length of 30 months (5 U.S.C. 552a(o)(2)(D). In order to qualify for the renewal, both parties must certify to the RRB Data Integrity Board, three months prior to the expiration of the agreement that:

(1) The program will continue to be conducted without change, and

(2) Each party certifies to the board in writing that the program has been conducted in compliance with the agreement.

The number of matches conducted with each state during the period of the match will vary from state to state, but typically are 2 to 4 matches per calendar year.

ADDRESSES: Address any comments concerning this notice to Ms. Martha P. Rico, Secretary to the Board, Railroad Retirement Board, 844 North Rush Street Chicago, Illinois 60611-2092.

FOR FURTHER INFORMATION CONTACT: Mr. Timothy S. Grant, Chief Privacy Officer, Railroad Retirement Board, 844 North Rush Street Chicago, Illinois 60611-2092, tim.grant@rrb.gov.

SUPPLEMENTARY INFORMATION:

A. General

The Privacy Act of 1974 (5 U.S.C. 552a), as amended, regulates Federal agencies when they conduct computer matching activities in a system of records with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish reports about matching programs to Congress and Office of Management and Budget;

(5) Notify beneficiaries and applicants that their records are subject to matching; and

(6) Verify match findings before reducing, suspending, terminating, or denying a person's benefits or payments.

B. RRB Computer Matches Subject to the Privacy Act

We have taken action to ensure that our computer matching programs comply with the requirements of the Privacy Act of 1974, as amended.

C. Notice of Computer Matching Program: RRB with State Medicare Agencies (Renewal):

Name of Participating Agencies: The Railroad Retirement Board and state public aid/public assistance agencies.

Authority for Conducting the Match: 20 CFR 200.5(j)(1), 20 CFR 200.8(g)(10), 42 CFR 435.940 through 435.965.

Purpose of the Match: The match has several purposes allowing state agencies to:

(1) Accurately identify qualified Railroad Retirement Beneficiaries;

(2) Make necessary adjustments required under state law in public aid payments due to cost of living or other adjustments in RRB annuities;

(3) Coordinate benefits of dually eligible Medicare and Medicaid beneficiaries; and

(4) To identify individuals who are eligible for Part B Medicare and not enrolled in order to enroll such individuals in the State Buy-In program.

Categories of Individuals: All beneficiaries under the Railroad Retirement Act who have been identified by a state as a recipient of public aid will have information about their RRB benefits and Medicare enrollment furnished to the requesting state agency.

Categories of Records: The state agency will provide the RRB with a file of records. The data elements in the records will consist of beneficiary identifying information such as: Name, Social Security Number (SSN), date of birth, and RRB Claim Number, if known. The RRB will then conduct a computer match on the state provided identifying information.

If the matching operation reveals that an individual who received benefits under the Railroad Retirement Act also received benefits from the state for any days in the period, the RRB will notify the state agency and provide benefit payment and Medicare Entitlement data for those matched individuals. The state agency will then make adjustments, as necessary by law or regulation for those matched records.

Systems of Records: This information is covered as a routine disclosure under the Privacy Act system of records RRB-20, Health Insurance and Supplementary Medical Insurance Enrollment and Premium Payment System (MEDICARE), or RRB-21, Railroad Unemployment and Sickness Insurance Benefit System, which were published in the Federal Register on: RRB-20, September 30, 2014 (79 FR 58886), and RRB-21 on May 15, 2015 (80 FR 28016). You can also find all RRB Privacy Act Systems of Records notices on our public Web site at: (http://www.rrb.gov/bis/privacy_act/SORNList.asp).

Other information: The notice we are giving here is in addition to any individual notice.

We will furnish a copy of this notice to both Houses of Congress and the Office of Management and Budget.

Dated: May 25, 2017.
By Authority of the Board.
Martha P. Rico,
Secretary to the Board.

[FR Doc. 2017-11414 Filed 6-1-17; 8:45 am]

BILLING CODE 7905-01-P